DEPARTMENT OF TRANSPORTATION

Pipeline and Hazardous Materials Safety Administration

[Docket No. PHMSA-2009-0285]

Pipeline Safety: Requests for Special Permit

AGENCY: Pipeline and Hazardous Materials Safety Administration (PHMSA); DOT.

ACTION: Notice.

SUMMARY: PHMSA is publishing this notice of special permit requests we have received from several pipeline operators, seeking relief from compliance with certain requirements in the Federal pipeline safety regulations. This notice seeks public comments on these requests, including comments on any safety or environmental impacts. At the conclusion of the 30-day comment period, PHMSA will evaluate each request and determine whether to grant or deny a special permit.

DATES: Submit any comments regarding these special permit requests by January 11, 2010.

ADDRESSES: Comments should reference the docket numbers for the specific special permit request and may be submitted in the following ways:

• E-Gov Web Site: http://www.Regulations.gov. This site allows the public to enter comments on any Federal Register notice issued by any agency.

• Fax: 1-202-493-2251.

• Mail: Docket Management System: U.S. Department of Transportation, Docket Operations, M-30, West Building Ground Floor, Room W12-140, 1200 New Jersey Avenue, SE., Washington, DC 20590.

• Hand Delivery: DOT Docket Management System: U.S. Department of Transportation, Docket Operations, M-30, West Building Ground Floor, Room W12-140, 1200 New Jersey Avenue, SE., Washington, DC 20590, between 9 a.m. and 5 p.m., Monday through Friday, except Federal holidays.

Instructions: You should identify the docket number for the special permit request you are commenting on at the beginning of your comments. If you submit your comments by mail, please submit two copies. To receive confirmation that PHMSA has received your comments, please include a self-addressed stamped postcard. Internet users may submit comments at http://www.Regulations.gov.

Note: Comments are posted without changes or edits to http://www.Regulations.gov, including any personal information provided.

Privacy Act Statement: Anyone may search the electronic form of all comments received for any docket. DOT's complete Privacy Act Statement was published in the Federal Register on April 11, 2000 (65 FR 19477) and is available on http://www.regulations.gov.

FOR FURTHER INFORMATION CONTACT: General: Kay McIver by telephone at (202) 366-0113; or, e-mail at kay.mciver@dot.gov.

Technical: Steve Nanney by telephone at (713) 272-2855; or, e-mail at steve.nanney@dot.gov.

SUPPLEMENTARY INFORMATION: PHMSA has received several requests for special permits from pipeline operators who seek relief from compliance with certain pipeline safety regulations. Each request is filed in the Federal Docket Management System (FDMS) and has been assigned a separate docket number in the FDMS. Each docket includes any technical analysis or other supporting documentation provided by the requestor, including a description of any alternative measures the operator proposes to take in lieu of compliance. We invite interested persons to participate by reviewing these special permit requests at http://www.Regulations.gov, and by submitting written comments, data or other views. Please include any comments on potential environmental impacts that may result if these special permits are granted.

Before acting on these special permit requests, PHMSA will evaluate all comments received on or before the comments closing date. Comments will be evaluated after this date if it is possible to do so without incurring additional expense or delay. PHMSA will consider each relevant comment we receive in making our decision to grant or deny a request and what terms and conditions are appropriate.

PHMSA has received the following special permit requests:

Docket Number | Requester | Regulation(s) affected | Nature of special permit
PHMSA-2009-0266 | CountryMark Cooperative, LLP | 49 CFR 195.452(h)(4)(ii)(A), 49 CFR 195.452(h)(4)(iii)(B) | CountryMark Pipeline, LLC requested relief from certain federal regulations for its 178 mile Intrastate, Mount Vernon, Indiana to Jolietville, Indiana pipeline. CountryMark requests that the special permit conditions be in accordance with the guidelines from ASME B31.4 and the PRCI Pipeline Repair Manual, which states that: • Dents deeper than 6% should be repaired. • In pipe NPS 4 and smaller, dents are allowed up to ¼ inch and • Dents larger than 2% should be analyzed for fatigue. The pipeline runs through the counties of Posey, Gibson, Knox, Green, Owen, Putnam, Morgan, Hendricks, Boone and Hamilton in Indiana. The pipeline has two segments; (1) Mount Vernon to Switz City; and (2) Switz City to Jolietville. This intrastate pipeline was constructed in 1952 and 1953 (8⅝-inch, 0.322″ wall thickness, Grade B steel, seamless pipe) and follows a largely rural route as it passes through 13 (11 Ecological and 2 Drinking Water) Unusually Sensitive Areas. The pipeline operates at a MOP of 800 psig.
PHMSA-2009-0273 | Vintage Production California LLC | 49 CFR 192.53, 192.55, 492.105, 192.107, 192.109, 192.111, 192.113, 192.221 192.455, 192.503(b)(3), 192.619 | Vintage Production California LLC requested relief from certain federal regulations for the use of flexible steel pipe. The flexible steel pipe that Vintage proposes to use was designed and manufactured in accordance with API 17J, Specification for Un-bonded Flexible Pipe. Vintage proposes to install approximately 46,300 feet of 6-inch Flex Steel ™ pipe in Ventura County, California.
PHMSA-2009-0319 | Kern River Gas Transmission Company | 49 CFR 192.625 | Kern River Gas Transmission Company requested relief from federal regulations require odorization of natural gas in its Centennial Lateral Line. This line is located in Clark County, Las Vegas, Nevada. The lateral begins at the Kern River 36-inch main line (mile post 519.68) and runs to a meter station that supplies natural gas to the Southwest Gas Corporation. The lateral is 1,083 feet in length and has a 10.750-inch diameter tap valve that transitions into a 12.75-inch, 0.250″ wall thickness, Grade API 5L-X65 pipe line. The current MAOP is 1,200 psig with plans to operate at 1,333 psig in the future per special permit, PHMSA-2007-29078.

Authority: 49 U.S.C. 60118 (c)(1) and 49 CFR 1.53.

Issued in Washington, DC on December 3, 2009.
Jeffrey D. Wiese,
Associate Administrator for Pipeline Safety.

[FR Doc. E9-29400 Filed 12-9-09; 8:45 am]

BILLING CODE 4910-60-P